GENERAL SERVICES ADMINISTRATION

[OMB Control No. 3090-0322; Docket No. 2023-0001; Sequence No. 10]

Submission for OMB Review; General Services Administration Acquisition Regulation; Prohibition on Certain Supply Chain Services or Equipment Under Lease Acquisitions and Commercial Solution Openings

AGENCY: Office of the Chief Acquisition Officer, General Services Administration (GSA).

ACTION: Notice of request for comments.

SUMMARY: Under the provisions of the Paperwork Reduction Act, the Regulatory Secretariat Division will be submitting to the Office of Management and Budget (OMB) a request to review and approve a revision of a previously approved information collection requirement for Prohibition to Certain Telecommunications and Video Surveillance Services or Equipment under Lease Acquisitions and Commercial Solution Openings. The revision now includes new information to be collected related to supply chain risk information sharing and exclusion or removal orders consistent with the Federal Acquisition Supply Chain Security Act of 2018.

DATES: Submit comments on or before March 4, 2024.

ADDRESSES: Written comments and recommendations for this information collection should be sent within 30 days of publication of this notice to www.reginfo.gov/public/do/PRAMain. Find this particular information collection by selecting “Currently under Review—Open for Public Comments”; or by using the search function.

FOR FURTHER INFORMATION CONTACT: Mr. Stephen Carroll, Procurement Analyst, General Services Acquisition Policy Division, 817-253-7858 or via email at gsarpolicy@gsa.gov.

SUPPLEMENTARY INFORMATION:

A. Purpose

There are two purposes. The first (“889”) supports implementation of section 889 of the John S. McCain National Defense Authorization Act for Fiscal Year 2019 (Pub. L. 115-232) under lease acquisitions and commercial solution openings. This section prohibits agencies from procuring, obtaining, extending or renewing a contract with contractors that will provide or use covered telecommunication equipment or services as a substantial or essential component of any system, or as a critical technology as part of any system on or after August 13, 2020 unless an exception applies.

The second (“FASCSA Orders”) supports implementation of supply chain risk information sharing and exclusion or removal orders consistent with the Federal Acquisition Supply Chain Security Act of 2018 and a final rule issued by the Federal Acquisition Security Council. The implementation of supply chain risk information sharing and exclusion or removal orders FAR interim rule requires complying with exclusion or removal orders (“FASCSA Orders”) and sharing certain supply chain risk information with the Federal Acquisition Security Council (FASC) when applicable FASCSA orders are issued from one or a combination of the following FASCSA orders-issuing agencies: Department of Homeland Security (DHS), the Department of Defense (DoD), and/or the Office of the Director of National Intelligence (DNI). Only DHS may issue orders applicable to GSA (i.e., civilian agencies).

For 889, the requirement is implemented in the Federal Acquisition Regulation (FAR) through the provision at FAR 52.204-24, Representation Regarding Certain Telecommunications and Video Surveillance Services or Equipment and the clause at FAR 52.204-25, Prohibition on Contracting for Certain Telecommunications and Video Surveillance Services or Equipment.

For FASCSA Orders, the requirement is implemented in the FAR through the provision at FAR 52.204-29, Federal Acquisition Supply Chain Security Act Orders-Representation and Disclosures and the clause at FAR 52.204-30, Federal Acquisition Supply Chain Security Act Orders-Prohibition.

B. Annual Reporting Burden

1. FAR 52.204-24 for GSA Lease Acquisitions

Respondents: 3,100.

Responses Per Respondent: 1.

Total Responses: 3,000.

Hours per Response: 1.5.

Total Burden Hours: 4,650.

2. FAR 52.204-25 for GSA Lease Acquisitions

Respondents: 62.

Responses per Respondent: 1.

Total Responses: 62.

Hours per Response: 1.5.

Total Burden Hours: 93.

3. FAR 52.204-29 for GSA Lease Acquisitions

Respondents: 186.

Responses per Respondent: 1.

Total Responses: 186.

Hours per Response: 2.

Total Burden Hours: 372.

4. FAR 52.204-30 for GSA Lease Acquisitions

Respondents: 124.

Responses per Respondent: 1.

Total Responses: 124.

Hours per Response: 2.

Total Burden Hours: 248.

Note: GSA solicits and awards so few CSO procurements (on average less than 5 per year), the burden is negligible and therefore not included in this estimate.

C. Public Comments

A 60-day notice was published in the Federal Register at 88 FR 82894 on November 27, 2023. No comments were received.

Obtaining Copies of Proposals: Requesters may obtain a copy of the information collection documents from the GSA Regulatory Secretariat Division, by calling 202-501-4755 or emailing GSARegSec@gsa.gov. Please cite “Information Collection 3090-0322”, in all correspondence.

Jeffrey Koses,
Senior Procurement Executive, Office of Acquisition Policy, Office of Government-wide Policy.

[FR Doc. 2024-02040 Filed 1-31-24; 8:45 am]

BILLING CODE P